SMALL BUSINESS ADMINISTRATION

Senior Executive Service: Performance Review Board Members

AGENCY: U.S. Small Business Administration.

ACTION: Notice of Members for the FY 2016 Performance Review Board.

SUMMARY: Title 5 U.S.C. 4314(c)(4) requires each agency to publish notification of the appointment of individuals who may serve as members of that Agency's Performance Review Board (PRB). The following individuals have been designated to serve on the FY 2016 Performance Review Board for the U.S. Small Business Administration.

1. Delorice Ford, (Chair), Assistant Administrator for Hearings and Appeals

2. Isabella Guzman, Deputy Chief of Staff

3. James Rivera, Associate Administrator for Disaster Assistance

4. Erin Andrew, Assistant Administrator for Women's Business Ownership

5. Eugene Cornelius, Deputy Associate Administrator for Field Operations

6. Francisco Marrero, District Director, South Florida

7. Linda Rusche, Director of Financial Assistance

8. Nicolas Maduros, Chief of Staff

Dated: October 15, 2015.
Maria Contreras-Sweet,
Administrator.

[FR Doc. 2015-26665 Filed 10-23-15; 8:45 am]

BILLING CODE P